DEPARTMENT OF TRANSPORTATION

Surface Transportation Board

[STB Ex Parte No. 558 (Sub-No. 5)]

Railroad Cost of Capital—2001

AGENCY: Surface Transportation Board, DOT.

ACTION: Notice of decision.

SUMMARY: On June 20, 2002 the Board served a decision to update its computation of the railroad industry's cost of capital for 2001. The composite after-tax cost of capital rate for 2001 is found to be 10.2%, based on a current cost of debt of 6.9%; a cost of common equity capital of 12.8%; a cost of preferred equity capital of 6.3%; and a capital structure mix comprised of 41.8% debt, 56.0% common equity, and 2.2% preferred equity capital. The cost of capital finding made in this proceeding will be used in a variety of Board proceedings.

EFFECTIVE DATE: This action is effective June 20, 2002.

FOR FURTHER INFORMATION CONTACT: Leonard J. Blistein, (202) 565-1529. [TDD for the hearing impaired: (800) 877-8339.]

SUPPLEMENTARY INFORMATION: The cost of capital finding in this decision may be used for a variety of regulatory purposes. To obtain a copy of the full decision, write to, call, or pick up in person from: Da-To-Da Legal, Room 405, 1925 K Street, NW., Washington, DC 20423. Telephone 202 293-7776. [Assistance for the hearing impaired is available through TDD services 1-800-877-8339.] The decision is also available on the Board's internet site at http://www.stb.dot.gov.

Environmental and Energy Considerations

This action will not significantly affect either the quality of the human environment or the conservation of energy resources.

Regulatory Flexibility Analysis

Pursuant to 5 U.S.C. 605(b), we conclude that our action in this proceeding will not have a significant economic impact on a substantial number of small entities. The purpose and effect of this action are to update the annual railroad industry cost of capital finding by the Board. No new reporting or other regulatory requirements are imposed, directly or indirectly, on small entities.

Authority: 49 U.S.C. 10704(a).

Decided: June 14, 2002.
By the Board, Chairman Morgan and Vice Chairman Burkes.
Vernon A. Williams,
Secretary.

[FR Doc. 02-15592 Filed 6-19-02; 8:45 am]

BILLING CODE 4915-00-P